Title 3—

The President

Proclamation 8319 of November 14, 2008

America Recycles Day, 2008

By the President of the United States of America

A Proclamation

On America Recycles Day, we highlight the importance of recycling as a way to safeguard and protect the environment and preserve our precious natural resources.

We live in a country of splendor and beauty, and no matter which State each of us calls home, we all have a responsibility to practice good environmental stewardship. It is in our Nation's best interest that government, businesses, community organizations, and individuals work together to conserve our natural resources. The Environmental Protection Agency, through its Resource Conservation Challenge, is encouraging communities to increase recycling collection. Through the Plug-In To eCycling Campaign, we are working to make it easier for Americans to donate or safely recycle old electronics, including TVs, computers, and cell phones. By recycling we can strengthen local economies, reduce greenhouse gases, conserve natural resources, and save landfill space. Using our resources wisely, we can make our communities more livable and our world a cleaner place for our children and grandchildren.

On this day, we remember our opportunity to preserve the great American landscape through recycling. By continuing to work together, we can maintain and enjoy the beauty of our land for generations to come.

NOW, THEREFORE, I, GEORGE W. BUSH, President of the United States of America, by virtue of the authority vested in me by the Constitution and laws of the United States, do hereby proclaim November 15, 2008, as America Recycles Day. I call upon the people of the United States to observe this day with appropriate programs and activities.

IN WITNESS WHEREOF, I have hereunto set my hand this fourteenth day of November, in the year of our Lord two thousand eight, and of the Independence of the United States of America the two hundred and thirty-third.

[FR Doc. E8-27642

Filed 11-18-08; 8:45 am]

Billing code 3195-W9-P